DEPARTMENT OF EDUCATION

[Docket ID ED-2015-OESE-0047]

Proposed Waiver and Extension of the Project Period; Territories and Freely Associated States Education Grant Program

AGENCY: Office of Elementary and Secondary Education, Department of Education.

ACTION: Proposed waiver and extension of the project period.

[CFDA Number: 84.256A]

SUMMARY: For 36-month projects funded in fiscal year (FY) 2012 under the Territories and Freely Associated States Education Grant (T&FASEG) program, the Secretary proposes to waive the requirement that prohibits the extension of project periods involving the obligation of additional Federal funds. The Secretary also proposes to extend the project period of these grants for up to an additional 24 months. The proposed waiver and extension would enable the five current T&FASEG grantees to continue to receive Federal funding annually for project periods through FY 2016 and possibly through FY 2017. In addition, during this period, the Pacific Regional Educational Laboratory (Pacific REL) would continue to receive funds set aside for technical assistance under the T&FASEG program.

DATES: We must receive your comments on or before May 26, 2015.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under “Are you new to the site?”

• Postal Mail, Commercial Delivery, or Hand Delivery: If you mail or deliver your comments about this proposed waiver and extension of the project period, address them to Collette Fisher, U.S. Department of Education, 400 Maryland Avenue SW., Room 3E231, Washington, DC 20202-6400.

Privacy Note: The Department's policy is to make all comments received from members of the public available for public viewing in their entirety on the Federal eRulemaking Portal at www.regulations.gov. Therefore, commenters should be careful to include in their comments only information that they wish to make publicly available.

FOR FURTHER INFORMATION CONTACT: Collette Fisher. Telephone: (202) 401-0039 or by email at: collette.fisher@ed.gov.

If you use a telecommunications device for the deaf (TDD) or a text telephone (TTY), call the Federal Relay Service (FRS), toll free, at 1-800-877-8339.

SUPPLEMENTARY INFORMATION: Invitation to Comment: We invite you to submit comments regarding this proposed waiver and extension. We are particularly interested in receiving comments on the potential impact that this proposed waiver and extension might have on the five current T&FASEG program grantees: American Samoa, the Commonwealth of the Northern Mariana Islands, Guam, the U.S. Virgin Islands, and the Republic of Palau. We note that these grantees also constitute the eligible applicants under the T&FASEG program.

During and after the comment period, you may inspect all public comments about this proposed waiver and extension by accessing Regulations.gov. You may also inspect all public comments in Room 3E231, 400 Maryland Ave. SW., Washington, DC, between the hours of 8:30 a.m. and 4:00 p.m., Washington, DC time, Monday through Friday of each week, except Federal holidays.

Assistance to Individuals with Disabilities in Reviewing the Rulemaking Record: On request we will provide an appropriate accommodation or auxiliary aid to an individual with a disability who needs assistance to review the comments or other documents in the public rulemaking record for this proposed waiver and extension. If you want to schedule an appointment for this type of aid, please contact the person listed under FOR FURTHER INFORMATION CONTACT.

Background

The T&FASEG program is authorized under section 1121(b) of the Elementary and Secondary Education Act of 1965, as amended (ESEA). Under this program, the Secretary is authorized to award grants, on a competitive basis, to local educational agencies (LEAs) in the U.S. Territories—American Samoa, the Commonwealth of the Northern Mariana Islands, Guam, and the U.S. Virgin Islands—and one eligible Freely Associated State, the Republic of Palau. Through these grants, the T&FASEG program supports projects to raise student achievement through direct educational services.

T&FASEG program grant funds may be used for activities authorized under the ESEA, including teacher training, curriculum development, development or acquisition of instructional materials, and general school improvement and reform. More specifically, under the T&FASEG program, grant funds may be used to—

(a) Conduct activities consistent with the programs described in the ESEA, including the types of activities authorized under—

(1) Title I—Improving the Academic Achievement of the Disadvantaged;

(2) Title II—Preparing, Training, and Recruiting Highly-Quality Teachers and Principals;

(3) Title III—Language Instruction for Limited English Proficient and Immigrant Students;

(4) Title IV—21st Century Schools; and

(5) Title V—Promoting Informed Parental Choice and Innovative Programs; and

(b) Provide direct educational services that assist all students with meeting challenging State academic content standards.

In addition, section 1121(b)(3)(d) of the ESEA authorizes the Secretary to provide up to five percent of the amount reserved for T&FASEG program grants to pay the administrative costs of the Pacific REL, which provides technical assistance to grant recipients regarding the administration and implementation of their projects.

On April 30, 2012, we published in the Federal Register (77 FR 25452) a notice inviting applications for new awards under the FY 2012 T&FASEG program competition (2012 Notice Inviting Applications).

In FY 2012, the Department made three-year awards to five T&FASEG projects. The project period for these T&FASEG program grants is currently scheduled to end on September 30, 2015. The Secretary proposes to waive the requirement in 34 CFR 75.261(c)(2), which prohibits the extension of project periods involving the obligation of additional Federal funds, and proposes to extend the project period for current T&FASEG grant recipients for up to 24 months. This would allow the grantees to continue to receive Federal funding annually for project periods through FY 2016 and possibly FY 2017.

We are proposing this waiver and extension because we have concluded that it would not be in the public interest to incur a disruption in the services associated with holding a new T&FASEG competition in FY 2015. Rather, it would be more effective to maintain the continuity of current projects by allowing grantees the opportunity to continue to provide high-quality direct educational services in support of the Secretary's priorities to students and teachers in the U.S. Territories and the Republic of Palau without interruption. Consistent with the scope, goals, and objectives of the current projects, grantees would continue to support initiatives on standards and assessments, effective teachers and leaders, and projects that are designed to improve student achievement or teacher effectiveness through the use of high-quality digital tools or materials, which include preparing teachers to use technology to improve instruction, as well as developing, implementing, or evaluating digital tools or materials. Moreover, we believe that a longer project period will better enable grantees to carry out project objectives and anticipate providing for longer project periods in future competitions. Additionally, given that all eligible applicants currently receive grant awards under the T&FASEG program, the proposed waiver and extension would have limited impact on those entities.

We intend to fund the extended project period by using funds Congress appropriates under the current statutory authority, including FY 2014 funds available for awards made in FY 2015 and, if the grants are extended for two years, FY 2015 funds available for awards made in FY 2016.

Under this proposed waiver and extension of the project period—

(1) Current grantees would be authorized to receive T&FASEG continuation awards annually for up to two years through FY 2017;

(2) We would not announce a new T&FASEG competition or make new T&FASEG grant awards in FY 2015;

(3) During the extension period, any activities carried out would be consistent with, or a logical extension of, the scope, goals, and objectives of each grantee's approved application from the 2012 T&FASEG program competition;

(4) The requirements established in the program regulations and the 2012 Notice Inviting Applications would continue to apply to each grantee that receives a continuation award; and

(5) All requirements applicable to continuation awards for current T&FASEG grantees and the requirements in 34 CFR 75.253 would apply to any continuation awards received by current T&FASEG grantees.

If we announce this proposed waiver and extension as final, we will make decisions regarding annual continuation awards based on grantee performance as demonstrated through program narratives, budgets and budget narratives, and performance reports, and based on the regulations in 34 CFR 75.253. We intend to award continuation grants based on information provided to us annually by each grantee, indicating that it is making substantial progress performing its T&FASEG program activities based on substantial performance and progress.

Regulatory Flexibility Act Certification

The Secretary certifies that the proposed waiver and extension and the activities required to support additional years of funding would not have a significant economic impact on a substantial number of small entities. The entities that would be affected by this proposed waiver and extension are the five current T&FASEG program grantees receiving Federal funds. There are no other potential applicants.

The Secretary certifies that the proposed waiver and extension would not have a significant economic impact on these entities because the extension of an existing project imposes minimal compliance costs, and the activities required to support the additional years of funding would not impose additional regulatory burdens or require unnecessary Federal supervision.

Paperwork Reduction Act of 1995

This proposed waiver and extension does not contain any information collection requirements.

Intergovernmental Review: This program is subject to Executive Order 12372 and the regulations in 34 CFR part 79. One of the objectives of the Executive order is to foster an intergovernmental partnership and a strengthened federalism. The Executive order relies on processes developed by State and local governments for coordination and review of proposed Federal financial assistance. This document provides early notification of our specific plans and actions for this program.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 6331.

Dated: April 20, 2015.
Deborah S. Delisle,
Assistant Secretary for Elementary and Secondary Education.

[FR Doc. 2015-09510 Filed 4-22-15; 8:45 am]

BILLING CODE 4000-01-P